DEPARTMENT OF DEFENSE

Department of the Army

Corps of Engineers

The Release of the Final Environmental Impact Statement (FEIS) for the Town of Nags Head Proposed Beach Nourishment Project in Dare County, NC

AGENCY: Department of the Army, U.S. Army Corps of Engineers, DoD.

ACTION: Notice.

SUMMARY: The U.S. Army Corps of Engineers (COE), Wilmington District, Regulatory Division, has been reviewing a request for Department of the Army authorization, pursuant to Section 404 of the Clean Water Act and Section 10 of the Rivers and Harbors Act of 1899, from the Town of Nags Head to dredge up to 4.6 million cubic yards of beach-quality sediment from an offshore borrow source, and deposit the material along approximately 10 miles of ocean shoreline in the Town of Nags Head.

The applicant proposes to utilize a self-contained hopper dredge during a proposed construction window from April through September to undertake the dredging operations and discharge the sand on the beach via submerged pipeline. The applicant's proposed borrow areas include sites identified as having beach quality material in the U.S. Army Corps of Engineers, Wilmington District's EIS, entitled Final Feasibility Report and Environmental Impact Statement on Hurricane Protection and Beach Erosion Control, dated September 2000 (USACE 2000).

DATES: Written comments on the Final EIS will be received until July 26, 2010.

ADDRESSES: Copies of comments and questions regarding the Final EIS may be addressed to: U.S. Army Corps of Engineers, Wilmington District, Washington Regulatory Field Office. ATTN: File Number 200640282, 2407 W. Fifth Street, Washington, NC 27889. Copies of the Draft EIS can be reviewed on the Wilmington District Regulatory homepage at, http://www.saw.usace.army.mil/wetlands/regtour.htm, or contact Ms. Sharon Barnett, at (910) 251-4555, to receive written or CD copies of the Final EIS.

FOR FURTHER INFORMATION CONTACT: Questions about the proposed action and FEIS can be directed to Mr. Raleigh Bland, Project Manager, Regulatory Division, telephone: (910) 251-4564.

SUPPLEMENTARY INFORMATION: 1. Project Description. The project site is located off NC Highway 12, adjacent to the Atlantic Ocean, in the Town of Nags Head, Dare County, NC. The proposed project totals approximately 10 miles of ocean shoreline beginning approximately 1 mile from the town's northern limit and extending south to the town line adjacent to the Cape Hatteras National Seashore. The proposed borrow area is located in the Atlantic Ocean approximately 2-3 miles offshore of the project site. The Town of Nags Head encompasses approximately 11 miles of ocean shoreline on a barrier island located at the northern end of North Carolina's Outer Banks. The width of the berm of the island's dune system varies considerably with location along the town's beach and with the season. Along most of the project area, the winter berm is non-existent due to continuing erosion processes. Dune habitat is currently decreasing due to excessive erosion of the base or toe of the dunes by waves that travel unimpeded over eroded wet beach to directly impact dunes. The Town of Nags Head proposes to excavate 4.6 million cubic yards of beach-quality sediment from an offshore borrow source, and deposit the material along approximately 10 miles of ocean shoreline owned by the Town of Nags Head.

2. Proposed Action. The purpose of the proposed action is to nourish the Town of Nags Head's ocean shoreline to restore a protective beach, replace sand lost during the period of delay in the implementation of the federal Dare County Hurricane Protection and Beach Erosion Control Project (USACE 2000), and to help preserve property values and the tax base of Dare County.

The proposed borrow area includes portions of offshore areas identified by the Corps of Engineers in the 2000 Federal Dare County Project. The anticipated optimal equipment for excavations will include ocean-certified, self-contained hopper dredges. Such equipment typically excavates shallow trenches (approximately 2-3 foot sections) in each pass (leaving narrow undisturbed areas at the margin of each cut), then travels to a buoyed pipeline anchored close to shore. Discharge to the beach is via submerged pipeline across the surf zone, then by way of shore-based pipe positioned along the dry beach. Only a small area of the Corps borrow area will be required to provide up to 4.6 million cubic yards of beach quality material. The applicant is coordinating the specific area for use in the proposed project with the Corps with the following understanding: (1) The final borrow area required for the emergency beach nourishment project can be limited to the equivalent of a 0.9 square-mile (approximately 575 acres) area, (2) the borrow area used will be contiguous rather than a series of small impact areas, (3) once used, the borrow area will no longer be available for use, consistent with the Dare County Project, and (4) the borrow area will be delineated so as to avoid ongoing biological monitoring stations established by the Corps in connection with the Dare County Project. The project will be built in approximate 1-2 mile sections, optimizing the disposition of pipeline. Sections will be pumped into place with the aid of temporary dikes pushed up by bulldozers in the surf zone. Daily operations will impact approximately 500-1,000 linear feet of shoreline as work progresses in either direction from the submerged pipeline. Upon completion of a section, the submerged pipe and beach-building equipment will be shifted to the next section. As construction progresses, sections will be graded to final contours, dressed to eliminate low areas, and opened for use by the public. Support equipment will be shifted out of completed sections as soon as practicable, so that construction activities in a particular reach will not disrupt normal beach use for only a month or so at any locality. The finished sections will be allowed to adjust to natural processes for several months. The final process will include the placement of dune fencing and/or dune plantings as needed or required.

4. Alternatives. An extensive alternatives analysis was performed and reviewed for this project. This included the evaluation of a no action alternative; a retreat and relocate alternative; and the preferred alternative. Many alternatives were identified and evaluated through the scoping process, and further detailed descriptions of all alternatives is disclosed in Section 5.0 of the Final EIS.

5. Scoping Process. A public scoping meeting was held on April 28, 2009 and public and agency comments were solicited for input in the preparation of the Draft and Final EIS. The scoping meeting was well attended by the public, as well as representatives from local, state, and federal governmental agencies.

The COE coordinated closely with the North Carolina Division of Coastal Management, the U.S. Fish and Wildlife Service, and the National Marine Fisheries Service in the development of the Final EIS to ensure the process complies with State Environmental Policy Act (SEPA) requirements, as well as the NEPA requirements. The Final EIS has been designed to consolidate both NEPA and SEPA processes. The State of North Carolina has issued a 401 Water Quality Certification Permit and a Coastal Zone Consistency Determination in the form of a Coastal Area Management Act Permit.

Dated: June 17, 2010.
Jefferson M. Ryscavage,
Colonel, U.S. Army, District Commander.

[FR Doc. 2010-16137 Filed 7-1-10; 8:45 am]

BILLING CODE 3720-58-P